DEPARTMENT OF TRANSPORTATION

Federal Aviation Administration

Notice of Intent To Rule on Request To Release Airport Property at the Shafter Airport, Shafter, CA

AGENCY: Federal Aviation Administration (FAA), DOT.

ACTION: Notice of Request to Release Airport Property.

SUMMARY: The FAA proposes to rule and invites public comment on the release of approximately 44.70 acres of land at Shafter Airport, Shafter, California, from all restrictions of the surplus property agreement to facilitate an exchange for approximately 30.34 acres of land adjacent to the said airport. The land being released will be used for agricultural purposes.

DATES: Comments must be received on or before March 22, 2001.

ADDRESSES: Comments on this application may be mailed or delivered in triplicate to the FAA at the following address: Federal Aviation Administration, Airports Division, 15000 Aviation Blvd., Lawndale, CA 90261. In addition, one copy of any comments submitted to the FAA must be mailed or delivered to Mr. Herman Ruddell, Airport Director, Shafter Airport, at the following address: 201 Aviation Street, Shafter, CA 93263.

FOR FURTHER INFORMATION CONTACT: Mr. Ellsworth Chan, Manager, Safety & Standards Branch, AWP-620, 15000 Aviation Blvd., Lawndale, CA 90261, Telephone: (310) 725-3620. The request to release airport property may be reviewed in person at this same location.

SUPPLEMENTARY INFORMATION: On April 5, 2000, new authorizing legislation became effective. That bill, the Wendell H. Ford Aviation Investment and Reform Act for the 21st Century (AIR 21), Public Law 10-181 (Apr. 5, 2000; 114 Stat. 61), requires that a 30 day public notice must be provided before the Secretary may waive any condition imposed on an interest in surplus property.

The following is a brief overview of the request:

Minter Field Airport District requested the release of approximately 44.70 acres of airport property at Shafter Airport, Shafter, California, from surplus property agreement obligations. The purpose of the release is to permit the property to be exchanged for a 30.45 acres private parcel adjacent to the airport. The land being released will be used for agricultural purposes.

The fair market values for the two parcels are approximately the same.

Issued in Hawthorne, California, on February 7, 2001.
Ellsworth Chan,
Acting Manager, Airports Division, Western-Pacific Region.

[FR Doc. 01-4151 Filed 2-16-01; 8:45 am]

BILLING CODE 4910-13-M